DEPARTMENT OF DEFENSE

Office of the Secretary

[No. DOD-2007-OS-0006]

Proposed Collection; Comment Request

AGENCY: Defense Threat Reduction Agency (DTRA), DoD.

ACTION: Notice.

In compliance with Section 3506(c)(2)(A) of the Paperwork Reduction Act of 1995, the Defense Threat Reduction Agency (DTRA) announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 2, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the associated collection instrument, please write to the Defense Threat Reduction Agency, Attn: NTPR, 8725 John J. Kingman Road MSC 6201, Ft Belvoir, VA 22060-6201, or call (703) 767-2407, or e-mail NTPR@dtra.mil.

Title; Associated Form; and OMB Number: Nuclear Test Personnel Review (NTPR) Forms; DTRA Form 150, “Information Request and Release” and DTRA Forms 150-A, -B, -C, “Nuclear Test Questionnaires'; OMB Control Number 0704-TBD.

Needs and Uses: Veterans and their representatives routinely contact DTRA (by phone and mail) to request information regarding participation in U.S. atmospheric nuclear testing. A release form is required to certify the identify of the requester and authorize the release of Privacy Act information (to the veteran or a 3rd party). DTRA is also required to collect irradiation scenario information from nuclear test participants to accurately determine their radiation dose assessment.

Affected Public: Veterans and civilian test participants, and their representatives who are filing radiogenic disease compensation claims with the Department of Veterans Affairs or Department of Justice and require information from the Department of Defense.

Annual Burden Hours: 463.

Number of Respondents: 370.

Responses per Respondent: 1.

Average Burden per Response: 1.25 hours.

Frequency: On occasion.

SUPPLEMENTARY INFORMATION:

Summary of Information Collection

Authority to collect this information is provided by PL 98-542 which appointed DNA (now DTRA) Executive Agent for the NTPR Program. It is also required that the Secretary of Defense publish guidelines (see 32 CFR 218) describing DoD's process for generating radiation dose estimates.

Dated: January 22, 2007.
Patricia L. Toppings,
Alternate OSD Federal Register, Liaison Officer, Department of Defense.

[FR Doc. 07-384 Filed 1-29-07; 8:45 am]

BILLING CODE 5001-06-M